DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Maryland Transit Administration

Waiver Petition Docket Number FRA-2010-0128

The Maryland Transit Administration (MTA), on behalf of the Maryland Area Regional Commuter (MARC) train service, seeks a waiver of compliance from the Locomotive Safety Standards at 49 CFR 229.129(b)(2), which require that the sound level of locomotive horns manufactured before September 18, 2006, be tested before June 24, 2010. MARC owns 55 locomotives and 31 cab car locomotives, a total of 86 locomotive horns that required testing. Of the 86 locomotive horns, 43 (50 percent) have been tested. MTA states in their request that there are a number of reasons that the testing has not progressed as rapidly as needed to meet the requirement: Site requirements, weather conditions, and community noise complaints.

MTA requests that the requirement to complete testing of horns on locomotives built prior to September 18, 2006, be extended to December 31, 2010.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2010-0128) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA. FRA reserves the right to grant relief in response to this request prior to the expiration of the comment period. Any relief provided will be contingent upon FRA's consideration of any relevant comments submitted to the docket before the close of the comment period. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on August 13, 2010.
Robert C. Lauby,
Deputy Associate Administrator for Regulatory and Legislative Operations.

[FR Doc. 2010-20533 Filed 8-18-10; 8:45 am]

BILLING CODE 4910-06-P